FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Caribbean Enterprises, Inc., 1032 River Street, Hyde Park, MA 02136. Officers: Michael Cummins, President (Qualifying Individual); Stephen O. Harris, Vice President.

Young-Ko Trans Co., Ltd., 21818 S. Wilmington Ave., Suite 408, Long Beach, CA 90810. Officers: Scott J. Kim, Treasurer (Qualifying Individual); Hong Koo Chung, President.

OTS Logistics, 18712 Miguel Avenue, Cerritos, CA 90703. Simon Hwang, Sole Proprietor.

Pantrac Ocean Liner Corp., Brooklyn Navy Yard (Unit 315), 63 Flushing Avenue, Brooklyn, NY 11205. Officers: Benjamin Hamalian, President (Qualifying Individual); Hermine Hamalian, Chairman.

Forman Shipping USA, Inc., 21148 Figueroa Street, Carson, CA 90745. Officers: Han Kylung Lee, CFO (Qualifying Individual); Ki Tae Kim, CEO.

Pronto Freight Solution, Inc., One Cross Island Plaza, Suite 121, Rosedale, NY 11422. Officer: Xi Yin, President (Qualifying Individual).

Non-Vessel-Operating Common Carrier and Ocean Freight Forwarder Transportation Intermediary Applicants

Protrans International, Inc., 117 W. Main Street, Plainfield, IN 46168. Officers: Marino J. Diaz, Vice President; Aldo Wrves, Vice President; Timothy J. Gartner, Vice President (Qualifying Individuals), Craig Roeder, President.

United Global Logistics dba United Global Logistics, LLC, 1139 East Jersey Street, Elizabeth, NJ 07208. Officer: Yudy Zuniga-Soto, Owner (Qualifying Individual).

Global Carrier Alliance Corp., 10323 Santa Monica Boulevard, Suite 101, Los Angeles, CA 90025. Officers: Carlos Martinez-Tomatis, President (Qualifying Individual); Edward R. Fourticq, Director.

Dated: March 31, 2006.
Bryant L. VanBrakle,
Secretary.

[FR Doc. E6-4929 Filed 4-4-06; 8:45 am]

BILLING CODE 6730-01-P